DEPARTMENT OF ENERGY

Federal Energy Regulatory Commission

Combined Notice of Filings #1

Take notice that the Commission received the following electric corporate filings:

Docket Numbers: EC25-90-000.

Applicants: Rocking R Solar, LLC.

Description: Application for Authorization Under Section 203 of the Federal Power Act of Rocking R Solar, LLC.

Filed Date: 5/23/25.

Accession Number: 20250523-5295.

Comment Date: 5 p.m. ET 6/13/25.

Take notice that the Commission received the following electric rate filings:

Docket Numbers: ER16-2368-000; ER22-191-000; ER12-1329-000.

Applicants: Wildcat Wind Farm I, LLC, Tidal Energy Marketing (U.S.) L.L.C., New Creek Wind LLC.

Description: Supplement to 01/31/2025, Notice of Non-Material Change in Status of New Creek Wind LLC, et al.

Filed Date: 5/23/25.

Accession Number: 20250523-5279.

Comment Date: 5 p.m. ET 6/13/25.

Docket Numbers: ER25-1383-000.

Applicants: Freeport-McMoRan Copper & Gold Energy Services, LLC.

Description: Refund Report: FMES Refund Report to be effective N/A.

Filed Date: 5/27/25.

Accession Number: 20250527-5148.

Comment Date: 5 p.m. ET 6/17/25.

Docket Numbers: ER25-2312-000.

Applicants: Midcontinent Grid Solutions Iowa, LLC.

Description: § 205(d) Rate Filing: Formula Rate Filing and Expedited Request for Commission Action to be effective 7/23/2025.

Filed Date: 5/23/25.

Accession Number: 20250523-5195.

Comment Date: 5 p.m. ET 6/13/25.

Docket Numbers: ER25-2313-000.

Applicants: Paulding Wind Farm IV LLC.

Description: Initial Rate Filing: Shared Facilities Agreement and Request for Waivers to be effective 5/24/2025.

Filed Date: 5/23/25.

Accession Number: 20250523-5253.

Comment Date: 5 p.m. ET 6/13/25.

Docket Numbers: ER25-2314-000.

Applicants: Blooming Grove Wind Energy Center LLC.

Description: § 205(d) Rate Filing: Filing of Shared Facilities Agreement to be effective 7/23/2025.

Filed Date: 5/23/25.

Accession Number: 20250523-5254.

Comment Date: 5 p.m. ET 6/13/25.

Docket Numbers: ER25-2315-000.

Applicants: Paulding Wind Farm III LLC.

Description: Initial Rate Filing: Certificate of Concurrence for First Amended and Restated SFA to be effective 5/24/2025.

Filed Date: 5/23/25.

Accession Number: 20250523-5266.

Comment Date: 5 p.m. ET 6/13/25.

Docket Numbers: ER25-2316-000.

Applicants: Vistra Corp., Illinois Power Resources Generating, LLC.

Description: Request for Prospective and Limited Waiver of Vistra Corp., et al.

Filed Date: 5/23/25.

Accession Number: 20250523-5286.

Comment Date: 5 p.m. ET 6/2/25.

Docket Numbers: ER25-2317-000.

Applicants: Vistra Corp., Electric Energy Inc., Joppa BESS LLC.

Description: Request for Prospective and Limited Waiver of Vistra Corp., et al.

Filed Date: 5/23/25.

Accession Number: 20250523-5287.

Comment Date: 5 p.m. ET 6/13/25.

Docket Numbers: ER25-2318-000.

Applicants: PJM Interconnection, L.L.C.

Description: § 205(d) Rate Filing: Amendment to Service Agreement No. 6896; Queue No. AD1-100 to be effective 7/27/2025.

Filed Date: 5/27/25.

Accession Number: 20250527-5076.

Comment Date: 5 p.m. ET 6/17/25.

Docket Numbers: ER25-2319-000.

Applicants: PJM Interconnection, L.L.C.

Description: § 205(d) Rate Filing: Amendment to ISA No. 6372 & ICSA SA No. 6373 Queue No. AC1-189 to be effective 7/27/2025.

Filed Date: 5/27/25.

Accession Number: 20250527-5113.

Comment Date: 5 p.m. ET 6/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 27, 2025.
Carlos D. Clay,
Deputy Secretary.

[FR Doc. 2025-09984 Filed 6-2-25; 8:45 am]

BILLING CODE 6717-01-P